DEPARTMENT OF THE INTERIOR

Bureau of Land Management

[AZ-910-0777-XP-241A]

State of Arizona Resource Advisory Council Meeting

AGENCY: Bureau of Land Management, Interior.

ACTION: Arizona Resource Advisory Council Meeting notice.

SUMMARY: In accordance with the Federal Land Policy and Management Act and the Federal Advisory Committee Act of 1972, the U.S. Department of the Interior, Bureau of Land Management, Arizona Resource Advisory Council (RAC), will meet on June 8, 2007, in Phoenix, Arizona, at the Bureau of Land Management (BLM) National Training Center located at 9828 North 31st Avenue in Phoenix from 8 a.m. and conclude at 4:30 p.m. Morning agenda items include: Review of the March 8, 2007, Meeting Minutes for RAC and RRAC business; BLM State Director's Update on Statewide Issues; Presentations on Proposed Tri-State Shooting Range and Arizona Water Rights; RAC Questions on BLM Field Managers Rangeland Resource Team Proposals; and, Reports by RAC Working Groups. A public comment period will be provided at 11:30 a.m. on June 8, 2007, for any interested publics who wish to address the Council on BLM programs and business.

Under the Federal Recreation Enhancement Act, the RAC has been designated the Recreation Resource Advisory Council (RRAC), and has the authority to review all BLM and Forest Service (FS) recreation fee proposals in Arizona. The afternoon meeting agenda on June 8, will include discussion and review of the Recreation Enhancement Act (REA) Working Group Report, updated 4th Quarter Schedule of Fiscal Year 2007 BLM and FS recreation fee proposals, and two FS fee proposals in Arizona:

(1) Alto Pit OHV Use Area (Prescott National Forest): Ten minutes from downtown Prescott, and 2 hours from Phoenix and Flagstaff, this fee proposal would add a campground fee at a rate of $10 per night per campsite for single sites and $20 per night for a double site. Improvements include 10 single family sites and one double family site, three toilets, picnic tables, fire rings, loading and unloading area, 9 miles of internal designated trail system, additional external connection trails, 20 acres of designated cross county area, children's OHV play area, and year-round on site host.

(2) Haigler Canyon Campground and Day Use Area (Tonto National Forest): Proposed $6 per vehicle fee for overnight camping and day-use at Haigler Canyon Recreation Site near Young, Arizona. Major improvements will increase facilities and services available to the public. Fee revenues will be used for the continued operation and maintenance. A quality, water-based recreational experience will be provided for day-users, campers, hikers, and anglers. The site will include developed campsites and day-use areas plus space for campground hosts. Fourteen campsites will be provided with a picnic table, fire ring with cooking surface, and a tent pad. Campsites will offer hardened sites for tent trailers and tents. Walk-in campsites will be part of developed campsites. Day-use facilities will provide parking for 10-15 vehicles, picnic tables, and barbecue grills.

Following the FS and BLM proposals, the RRAC will open the meeting to public comments on the fee proposals. After completing their RRAC business, the BLM RAC will reconvene to provide recommendations to the RAC Designated Federal Official on the fee proposals and discuss future RAC meetings and locations.

DATES: Effective Date: May 8, 2007.

FOR FURTHER INFORMATION CONTACT: Deborah Stevens, Bureau of Land Management, Arizona State Office, One North Central Avenue, Suite 800, Phoenix, Arizona 85004-4427, 602-417-9215.

Michael Taylor,
Acting State Director.

[FR Doc. 07-2316 Filed 5-9-07; 8:45 am]

BILLING CODE 4310-32-M